DEPARTMENT OF LABOR

Employment and Training Administration

Workforce Investment Act (WIA)—Indian and Native American Employment and Training Programs; Solicitation for Grant Applications (SGA)—Final Grantee Award Procedures for Program Years (PY) 2010 and 2011

Announcement Type: New. Notice of Award Procedures for Grantees.

Funding Opportunity Number: SGA-DFA-PY-09-04.

Catalog of Federal Domestic Assistance Number (CFDA): 17.265.

Key Dates: The deadline for Notice of Intent (NOI) Part A is April 12, 2010. Applications must be received no later than 4 p.m. Eastern time. Address: Mailed applications must be addressed to the U.S. Department of Labor (DOL), Employment and Training Administration, Division of Federal Assistance, Attention: B. Jai Johnson, Grant Officer, Reference SGA/DFA PY-09-04, 200 Constitution Avenue, NW., Room N4716, Washington, DC 20210. For complete “Application and submission information,” please refer to Section IV.

I. Funding Opportunity Description

Section 166 of the Workforce Investment Act (WIA) authorizes programs to serve the employment and training needs of Indian and Native American adults and youth through competitive two-year grant awards with Indian Tribes, Tribal organizations, Alaska Native entities, Indian-controlled organizations serving Indians, or Native Hawaiian organizations. See WIA Section 166, Public Law 105-220 as amended, codified at 29 U.S.C. 2911.

This SGA contains the procedures by which DOL will select and designate grantees for PYs 2010 and 2011 (July 1, 2010 to June 30, 2012) to operate Indian and Native American Employment and Training Programs under WIA Section 166 within specified “service areas.” Grantees' programs must be open to participation by any eligible applicant, cannot be restricted by Tribal affiliation, and must ensure equitable access to employment and training services within the service area. Requirements for these programs are set forth in WIA Section 166 and the implementing regulations, 20 CFR parts 667 and 668, published at 65 FR 49294 and 49435 (August 11, 2000). The specific eligibility and application requirements for designation as a grantee are set forth at 20 CFR part 668, subpart B, which is attached to this SGA as Exhibit A (SF 424).

Applying the statutory and regulatory requirements, DOL will select entities for WIA Section 166 funding for a two-year period. Designated grantees will be funded annually during the designation period, contingent upon compliance with all grant award requirements and the availability of Federal funds. DOL waived nation-wide competition for the WIA Section 166 program in PYs 2006 through 2009. DOL has decided that there will be no waivers of competition for PY 2010 and 2011.

All applicants for designation as a WIA Section 166 grantee for PY 2010 and PY 2011 must follow the directions for filing an NOI—Part A in accordance with Section IV-B herein if they wish to be considered for an award of WIA funds. The employment and training activities proposed in the applications for Indian, Alaska Native, and Native Hawaiian individuals must:

(a) Develop the academic, occupational, and literacy skills of such individuals;

(b) Make such individuals more competitive in the workforce; and

(c) Promote the economic and social development of Indian, Alaska Native, and Native Hawaiian communities in accordance with the goals and values of such communities.

Congress has also directed DOL to administer the WIA Section 166 Program in a manner consistent with the principles of the Indian Determination Self-Determination and Education Assistance Act, 25 U.S.C. 450, et seq., and the government-to-government relationship between the Federal Government and Indian Tribal governments (WIA Section 166(a) (2)).

This SGA describes the information that all applicants must submit in order to be designated as a WIA Section 166 grantee. Before making a designation determination, the Grant Officer will conduct a “responsibility review,” in accordance with 20 CFR 667.170 (a review of the applicant's available records to assess its overall ability to administer Federal funds), of all applicants, along with a review of the applicant's ability to administer funds, in accordance with 20 CFR 668.220, and 668.230, to determine if applicants are capable of handling and accounting for Federal funds.

Entities new to this process should be aware that being designated as a Section 166 grantee, according to this SGA, will not automatically result in a grant award. Entities that are designated as grantees must prepare and obtain DOL approval of a two-year Comprehensive Service Plan (CSP). The CSP must include a detailed strategic plan for eligible adult and youth participants. Instructions for preparation of the CSP will be issued to all designated service providers in accordance with 20 CFR part 668, subpart G.

After DOL approves a Section 166 designee's CSP, DOL and the grantee will execute a grant agreement that includes the certifications and assurances required under 20 CFR 668.292. The grant agreement will reflect the amount of Section 166 funds awarded in accordance with 20 CFR 668.296 and 668.440. Upon approval of the required planning documents, the funds will be released to the grantee via a Notice of Obligation.

II. Award Information

A. Amount of Funds To Be Awarded

Funds available under this notice will be awarded by grant. Approximately $53 million is available to fund the Comprehensive Service Program (Adult) and $14 million is available for the Supplemental (Youth) Services Program.

B. Type of Assistance Instrument

As stated in Section I, DOL has not waived competition for any service areas for the PY 2010-2011 grant cycle. Therefore, challengers may compete with current grantees. The amount of WIA Section 166 funds to be awarded to each INA grantee will be determined under the procedures set forth at 20 CFR 668.296 for funds under the Adult program and 20 CFR 668.440 for youth-funded programs. DOL will determine award amounts after grantees have been designated.

C. Anticipated Number of Awards

Approximately 179 grantees may be designated under this SGA.

D. Expected Amounts of Individual Awards

Funds will be distributed nationwide on the basis of the geographic service areas awarded. Awards under the CSP (Adult) are anticipated to range from approximately $16,000 to approximately $5.8 million. Awards for the Supplemental Youth Services Program (Youth) are anticipated to range from approximately $1,073 to $3.1 million. Final award amounts in each category will depend on census data and the final PY 2010 appropriation levels.

E. Average Amount of Funding per Award

For PY 2009, the average Adult program grant amount was $296,764, and the average Supplemental Youth Services grant amount was $102,170. We expect that average funding for the PY 2010 awards will not differ significantly from these amounts.

F. Anticipated Start Dates and Periods of Performance for New Award

Grantees will be expected to commence operations of the Supplemental Youth Service Program on April 1, 2010, and the Adult program on July 1, 2010. The performance period for all grantees will be from July 1, 2010 to June 30, 2012.

III. Eligibility Information

A. Definitions Used To Identify Eligible Applicants

DOL will use the following definitions and special designation situations in determining eligibility and designating Section 166 service providers:

1. Native American, Native Hawaiian, or Native Alaskan-Controlled Organization

A Native American, Native Hawaiian, or Native Alaskan-controlled organization is defined as any organization with a governing body where more than 50 percent of the governing board members are Native Americans, Indians, Native Hawaiians, or Native Alaskans. Such an organization can be a Tribal government, Native Alaska entity, Native Hawaiian entity, consortium, or public or private nonprofit agency. For the purpose of this SGA, the governing board must have decision-making authority for the WIA Section 166 program.

2. Consortium

A consortium or its members must meet the requirements of 20 CFR 668.200(a), as follows: (1) Have a legal status as a government or as an agency of a government, or a private nonprofit corporation; (2) have the ability to administer INA program funds; (3) meet the fundings (See Section III B (4) herein for description of fundings).

Consortium members must also:

• Be in close proximity to one another, but they may operate in more than one State;

• Have an administrative unit legally authorized to run the program and to commit the other members to contracts, grants, and other legally binding agreements; and

• Be jointly and individually responsible for the actions and obligations of the consortium, including debts. See 20 CFR 668.200(b).

3. Service Area

Service Area is defined as the geographic area, described as States, counties, or reservations, or parts or combinations thereof, for which a Section 166 designation is made (Unlike prior years, a service area cannot be defined in terms of a specific population to be served.) The formal designation letter issued by the Grant Officer will notify the applicant about the geographic service area for which it has been designated. Grantees must ensure that all eligible population members within the geographic service area have equitable access to employment and training services. See 20 CFR 668.650(a).

4. Service Areas for Alaska Native Entities

Through prior grant competitions, DOL has established geographic service areas for Alaska Native employment and training grantees based on the following: (a) The boundaries of the regions defined in the Alaska Native Claims Settlement Act; (b) the boundaries of major subregional areas where the primary provider of human resource development-related services is an Indian Reorganization Act (IRA)-recognized Tribal council; and (c) the boundaries of the one Federal reservation in Alaska. These service areas may be modified as a result of the current grant competition. Within these established or revised geographic service areas, DOL will designate the primary Alaska Native-controlled human resource development services provider or an entity formally selected by that provider. In the past, these entities have been regional nonprofit corporations, IRA-recognized Tribal councils, and the Tribal government of the Metlakatla Indian Community.

5. Service Areas for Oklahoma Indians

Through prior grant competitions, DOL has established geographic service areas for Indian employment and training programs in Oklahoma, which have generally been county-wide areas. These service areas may be modified as a result of the current grant competition. In cases in which a significant portion of the land area of an individual county lies within the traditional jurisdiction(s) of more than one Tribal government, the service area has been subdivided on the basis of Tribal identification information contained in the most recent Federal Decennial Census of Population. Wherever possible, DOL will honor arrangements mutually satisfactory to grantees in adjoining or overlapping geographic service areas. Where such mutually satisfactory arrangements cannot be made, DOL will designate and assign service areas to Native American grantees in a manner that is consistent with WIA and that will preserve continuity of services and prevent undue fragmentation of the programs.

B. Eligible Applicants

1. To be eligible for designation as a Section 166 grantee in a geographic service area, an entity must meet all eligibility requirements of WIA Section 166 and 20 CFR 668.200, as well as the application and designation requirements found at 20 CFR part 668, subpart B (see Exhibit A attached).

2. Applicants are expected to review and must comply with the statute and regulations. Eligible entities must have a legal status as a government, an agency of a government, a private nonprofit corporation (i.e., incorporated under IRS Section 501(c)(3) or 501(c)(4) (except for Section 501(c)(4) organizations that engage in lobbying, as discussed in Section VI.B.1 herein), or a consortium that satisfies the requirements of 20 CFR 668.200(a), (b), and (c)(6)).

3. Organizations that are potentially eligible to apply for WIA Section 166 funds under this solicitation are:

• Federally recognized Indian Tribes;

• Tribal organizations as defined in 25 U.S.C. 450b;

• Alaskan Native-controlled organizations representing regional or village areas, as defined in the Alaska Native Claims Settlement Act;

• Native Hawaiian-controlled entities;

• Native American-controlled organizations serving Indians (see definition of Native American-controlled organizations below);

• State-recognized Tribal organizations serving individuals who were eligible to participate under Section 401 of the Job Training Partnership Act as of August 6, 1998;

• Consortia of eligible entities which individually meet the criteria for eligibility to apply for a grant (see definition of a consortium above). See WIA Sections 166(b)(1), (c)(1), and (d)(2)(B); 20 CFR 668.200.

Community and faith-based organizations are eligible to apply for Section 166 grants in accordance with WIA Section 166(c) and 20 CFR 668.200(c) and (d) if they are Native American, Alaska Native, or Native Hawaiian-controlled.

4. Fundings: Requested geographic service areas must comply with the funding limitations based on the formula funding level associated with their population size. See 20 CFR 668.200(a)(3), 668.296(b), and 668.440(a). Applicants seeking to provide services in a geographic service area for the first time must request one or more geographic service areas in competition that contain an eligible population of sufficient size to result in a funding level of at least $100,000 under the combined adult and youth funding formulas. See Section 668.200(a)(3). Current Section 166 grantees that do not meet the $100,000 are exempt from this requirement. Federally-recognized Tribes currently receiving, or applying for WIA Section 166 funds under Public Law 102-477 only need to meet a $20,000 funding level, as long as the combined funding under Public Law 102-477 is at least $100,000.

C. Other Eligibility Criteria

1. Additional Key Requirements

Additional key requirements include the following: Applicants must be determined to be capable of handling and accounting for Federal grant money. See 20 CFR 667.170 668.200(a)(2), 668.220, and 668.230.

2. Priorities

The regulations establish priorities for designation among eligible entities. A Federally recognized Indian Tribe, band, or group on its reservation (including former reservation areas in Oklahoma), and Alaska Native entities defined in the Alaska Native Claims Settlement Act (ANCSA) (or consortia that include a Tribe or an ANCSA entity) will receive priority over any other organization for designation as the service provider for the geographic area over which the entity has legal jurisdiction, provided that the entity has the capability to administer the program and also meets all eligibility and regulatory requirements. See 20 CFR 668.210(a). If the Grant Officer decides not to designate Indian Tribes or Alaska Native entities to serve their service areas, the Grant Officer will enter into arrangements to provide services with entities which the Tribes or Alaska Native entities involved approve. See 20 CFR 668.210(b). In geographic areas not served by Indian Tribes or Alaska Native entities, entities with a Native American-controlled governing body and which are representative of the Native American Community or communities involved will have priority for designation. See 20 CFR 668.210(c).

D. Cost Sharing or Matching

The WIA Section 166 program does not require grantees to share costs or provide matching funds.

E. Debarred, Suspended, Convicted, Defaulting Entities

In accordance with 29 CFR part 98, entities that are debarred or suspended are excluded from Federal financial assistance and are ineligible to receive a WIA Section 166 grant. Additionally, entities that have been convicted of a violation of 18 U.S.C. 665 and/or 666, or that are in default of any debt repayment agreement signed with DOL or any Federal agency, are ineligible to receive an award under this SGA.

F. Recipients of Services

All recipients of adult and youth services under WIA Section 166 must meet the eligibility requirements of 20 CFR 668.300 and 668.430, respectively.

G. Veterans Priority

The Jobs for Veterans Act (Pub. L. 107-288) requires priority of service to veterans and spouses of certain veterans for the receipt of employment, training, and placement services in any job training program directly funded, in whole or in part, by DOL. The regulations implementing this priority of service can be found at 20 CFR part 1010. In circumstances where a grant recipient must choose between two qualified candidates for training, one of whom is a veteran or eligible spouse, the Veterans Priority of Service provisions require that the grant recipient give the veteran or eligible spouse priority of service by admitting him or her into the training program. To obtain priority of service a veteran or spouse must meet the program's eligibility requirements. Grantees must comply with DOL guidance on veterans' priority. Employment and Training Administration (ETA) Training and Employment Guidance Letter (TEGL) No. 10-09 (issued November 10, 2009) provides guidance on implementing priority of service for veterans and eligible spouses in all qualified job training programs funded in whole or in part by DOL. TEGL No. 10-09 is available at http://wdr.doleta.gov/directives/corr_doc.cfm?DOCN=2816.

H. Allowable Activities

Allowable activities are those listed in 20 CFR 668.340. See 20 CFR 668.350 for restrictions on allowable activities. Additional requirements for providing youth services can be found at 20 CFR 668.450.

I. Required Partner

In those local workforce investment areas where an INA grantee conducts field operations or provides substantial services, the INA grantee is a required partner in the local One-Stop delivery system and is subject to the provisions relating to such partners in 20 CFR part 662. The INA grantee and the Local Board which oversees the operation of the One-Stop Center(s) in a workforce investment area also must execute a Memorandum of Understanding (MOU). See 20 CFR 668.360.

IV. Application and Submission Information

A. Application Package

This SGA, together with the attached excerpt of regulations (20 CFR part 668, subpart B), includes all information needed to apply for designation as a WIA Section 166 service provider.

B. Content and Form of Application Submission

Every applicant for designation as a WIA Section 166 grantee for PY 2010 and PY 2011 must submit a signed original and two copies of a “NOI—Part A”, as described below. Incumbent Federally recognized Tribes participating in the demonstration under Public Law 102-477 whose status has not changed need to submit only the documents referenced in 1a and b below.

For each noncontiguous geographic service area for which an entity is applying, a separate NOI—Part A must be submitted.

1. Notice of Intent—Part A Requirements

Each applicant for designation must submit an NOI—Part A, which is comprised of the following:

(a) A letter signed by an authorized signatory official, requesting designation, or a Tribal resolution;

(b)(i) A completed SF-424 (“Application for Federal Assistance”) signed by the authorized signatory official who is authorized to bind the grantee to the grant agreement. See Exhibit A.

(ii) Since October 1, 2003, all applicants for Federal grant and funding opportunities have been required to have a Dun and Bradstreet (D-U-N-S®) number. See the Office of Management and Budget (OMB) Notice of Final Policy Issuance, 68 FR 38402 (June 27, 2003). Applicants for WIA Section 166 designation must supply their D-U-N-S® number in item five of the SF-424. See Exhibit B. Where a consortium is formed to apply for designation, the consortium must obtain a D-U-N-S® number. If the award will be made to the lead entity in the consortium, then the D-U-N-S® number for that lead entity must be used. The D-U-N-S® number is a nine-digit identification number that uniquely identifies business entities. Obtaining a D-U-N-S® number is easy and there is no charge. To obtain a D-U-N-S® number, access the following Web site: http://www.dunandbradstreet.com or call 1-866-705-5711. Requests for exemption from the D-U-N-S® number requirement must be made to OMB.

(c) A completed SF-424-A (Budget Information form). The form is attached at Exhibit C and is also available at http://www07.grants.gov/agencies/forms_repository_information.jsp and http://www.doleta.gov/grants/find_grants.cfm. In preparing the Budget Information Form, the applicant must provide a concise narrative explanation to support the budget request, explained in detail below.

(i) Budget Narrative: The budget narrative must provide a description of costs associated with each line item on the SF-424-A. It should also include a description of leveraged resources provided to support grant activities. In addition, the applicant should address precisely how the administrative costs support the project goals. The entire Federal grant amount requested (not just one year) should be included on both the SF 424 and SF 424-A. Separate budget information forms for Adult and Youth funding, as applicable, must be completed;

(d) Documentation of the applicant's legal status as described in 20 CFR 668.200(a)(1)), including copies of articles of incorporation for nonprofit corporations, or consortium agreement (if applicable).

(e) A specific description of the geographic area being applied for by State(s), counties, reservation(s), subparts, or combinations thereof.

(f) Evidence to establish the entity's ability to administer funds under 20 CFR 668.220 through 668.230, which at a minimum should include:

(i) A statement that the organization is in compliance with the DOL's debt management procedures;

(ii) A statement that fraud or criminal activity has not been found in the organization, or a brief description of the circumstance where fraud or criminal activity has been found and a description of the resolution, corrective action, and current status;

(iii) A narrative demonstrating that the entity has or can acquire the necessary program and management personnel to safeguard Federal funds and effectively deliver program services that support the purposes of WIA; and

(iv) If not otherwise provided, a narrative demonstrating that the entity has successfully carried out or has the ability to successfully carry out activities that will strengthen the ability of the individuals served to obtain or retain unsubsidized employment, including the past two-year history of publicly funded grants/contracts administered including identification of the fund source and a contact person.

(g) The assurances required by 29 CFR 37.20.

(h) A Standard Form (SF) 424 signed by the authorized signatory official who is authorized to bind the grantee to the grant agreement, attached hereto as Exhibit A.

(i) A very brief summary of the employment and training or human resource development program(s) serving Native Americans that the entity currently operates or has operated within the previous two-year period. The summary should identify the funding source, contact person, and phone number for the program(s).

(j) A brief description of the planning process used by the entity, including involvement of the governing body and local employers.

2. Notice of Intent (NOI)—Part B Requirements (Applicable to Competitions Only)

If two or more eligible entities file an NOI—Part A and satisfy the initial review described in Section V(B), and they have applied to provide Section 166 services for all or part of the same geographic service area or for overlapping service areas and no applicant is entitled to priority designation under 20 CFR 668.210, or the applicants have identical priorities, then a competitive selection will be made following the procedures in this section. When a competitive selection is necessary, the Grant Officer will notify each applicant of all competing NOIs no later than 45 days after publication of this SGA in the Federal Register and invite the competing applicants to submit the supplemental NOI—Part B and any additional information that the applicant determines is appropriate. To be considered, the Part B information and any additional information must be received at the DOL mailing address provided in Section IV (C) below, by 4 p.m. Eastern time within 20 days of the date of the Grant Officer's notification letter, or be postmarked in accordance with the directions in Section IV (D) below.

An applicant whose initial NOI submission addressed the requirements for both Part A and Part B does not need to submit a separate NOI—Part B. Exclusive of charts, graphs, or letters of support, Part B must not exceed 50 pages of double-spaced, single-sided 8.5 inch x 11 inch pages with 12 point text font, and one-inch margins. Applicants subject to the NOI—Part B requirements must also submit a copy ready copy of Part NOI—Part B, free of bindings, staples, or protruding tabs to ease in the reproduction of the application by DOL.

C. Submission Dates and Times

These directions apply to both NOI—Part A and NOI—Part B, unless otherwise specified.

The closing date for receipt of applications (NOI—Part A) under this announcement is April 12, 2010. Mailed NOI—Part A applications must be received at the DOL mailing address below no later than 4 p.m. Eastern Time, and online applications (applicable to NOI—Part A only) must be successfully submitted at grants.gov by the same deadline. Applications sent by e-mail, telegram, or facsimile (FAX) will not be accepted. Applications that do not meet the conditions set forth in this notice will be considered nonresponsive. No exceptions to the mailing and delivery requirements set forth in this notice will be granted.

Send an original and two copies of the entire application to: U.S. Department of Labor, Employment and Training Administration, Division of Federal Assistance, Attention: B. Jai Johnson, Grant Officer, Reference SGA/DFA- PY 09-04, 200 Constitution Avenue, NW., Room N-4716, Washington, DC 20210. Applicants are advised that mail delivery in the Washington area may be delayed due to mail decontamination procedures. Hand-delivered proposals will be accepted at the above address. All applications submitted through professional overnight delivery service will be considered to be hand-delivered and must be received at the designated place by the specified closing date and time.

Applicants may submit the NOI—Part A application online through Grants.gov (http://www.grants.gov). While not mandatory, DOL encourages the submission of applications through professional overnight delivery service.

NOI—Part A applications that are submitted through Grants.gov must be successfully submitted at http://www.grants.gov no later than 4 p.m. Eastern Time, April 12, 2010. The application must also be validated by Grants.gov. The submission and validation process is described in more detail below. Applicants are strongly advised to initiate the process as soon as possible and to plan for time to resolve technical problems if necessary.

The Department strongly recommends that before the applicant begins to write the proposal, applicants should immediately initiate and complete the “Get Registered” registration steps at: http://www.grants.gov/applicants/get_registered.jsp. These steps may take multiple days or weeks to complete, and this time should be factored into plans for electronic submission in order to avoid unexpected delays that could result in the rejection of an application. The Department strongly recommends that applicants use the “Organization Registration Checklist” at http://www.grants.gov/assets/Organization_Steps_Complete_Registration.pdf to ensure the registration process is complete.

Within two business days of application submission, Grants.gov will send the applicant two e-mail messages to provide the status of application progress through the system. The first e-mail, almost immediate, will confirm receipt of the application by Grants.gov. The second e-mail will indicate the application has either been successfully validated or has been rejected due to errors. Only applications that have been successfully submitted and successfully validated will be considered. It is the sole responsibility of the applicant to ensure a timely submission, therefore, sufficient time should be allotted for submission (two business days), and if applicable, subsequent time to address errors and receive validation upon resubmission (an additional two business days for each ensuing submission). It is important to note that if sufficient time is not allotted and a rejection notice is received after the due date and time, the application will not be considered. Applications received by Grants.gov after the established due date and time will be considered late and will not be considered.

To ensure consideration, the components of the application must be saved as either .doc, .xls or .pdf files. If submitted in any other format, the applicant bears the risk that compatibility or other issues will prevent us from considering the application. ETA will attempt to open the document but will not take any additional measures in the event of issues with opening. In such cases, the non-conforming application will not be considered for funding.

We strongly advise applicants to use the tools and documents, including FAQs that are available on the “Applicant Resources” page at http://www.grants.gov/applicants/app_help_reso.jsp#faqs. To receive updated information about critical issues, new tips for users and other time sensitive updates as information is available, applicants may subscribe to “Grants.gov Updates” at: http://www.grants.gov/applicants/email_subscription_signup.jsp.

If applicants encounter a problem with Grants.gov and do not find an answer in any of the other resources, call 1-800-518-4726 to speak to a Customer Support Representative or e-mail support@grants.gov.

D. Late Applications

For applications submitted on Grants.gov, only applications that have been successfully submitted no later than 4 p.m. Eastern Time on the closing date and then successfully validated will be considered. Any other application received after the date and time specified in this notice will not be considered, unless it is received before awards are made, it was properly addressed, and it was: (a) Sent by U.S. Postal Service mail, postmarked not later than the fifth calendar day before the date specified for receipt of applications (e.g., an application required to be received by the 20th of the month must be postmarked by the 15th of that month, or an NOI—Part B application due within 20 days of the date of a notification letter must be postmarked 15 days after the date of the letter); or (b) sent by professional overnight delivery service to the addressee and received at the designated place by the specified closing date and time.

“Postmarked” means a printed, stamped or otherwise placed impression (exclusive of a postage meter machine impression) that is readily identifiable, without further action, as having been supplied or affixed on the date of mailing by an employee of the U.S. Postal Service. Therefore, applicants should request the postal clerk to place a legible hand cancellation “bull's eye” postmark on both the receipt and the package. Failure to adhere to these instructions will be a basis for a determination that the application was not filed timely and will not be considered. Evidence of timely submission by a professional overnight delivery service must be demonstrated by equally reliable evidence created by the delivery service provider indicating the time and place of receipt.

E. Intergovernmental Review

This funding opportunity is not subject to Executive Order (EO) 12372, “Intergovernmental Review of Federal Programs.”

F. Funding Restrictions

Determinations of allowable costs will be made in accordance with the applicable Federal cost principles, e.g., OMB Circulars A-87 for Tribal governments, A-122 for private non-profits, and A-21 for educational institutions. See 20 CFR 668.840. The WIA cost rules at 20 CFR 667.200 to 667.220, and the administrative requirements at 20 CFR Part 668, subpart H also apply.

Construction (as opposed to maintenance and/or repair) costs are generally not allowed under WIA, except in specific circumstances specified at 20 CFR 667.260. Certain preaward costs may be allowable with specific advance approval of the Grant Officer in accordance with OMB Circular A-87 or A-122.

1. Indirect Costs

As specified in OMB Circular Cost Principles, indirect costs are those that have been incurred for common or joint objectives and cannot be readily identified with a particular final cost objective. In order to use grant funds for indirect costs incurred, the applicant must obtain an Indirect Cost Rate Agreement with its cognizant Federal agency either before or shortly after grant award.

2. Administrative Costs

Administrative costs could be direct or indirect costs, and are defined at 20 CFR 667.220. Under 20 CFR 668.825, 667.210(b), and this SGA, limits on administrative costs will be negotiated with the grantee and identified in the grant award document. Generally, these costs cannot exceed 20 percent of the amount of the grant. Administrative costs do not need to be identified separately from program costs on the SF 424A Budget Information Form. However, they must be discussed in the budget narrative and tracked through the grantee's accounting system. To claim any administrative costs that are also indirect costs, the applicant must obtain an Indirect Cost Rate Agreement from its cognizant Federal agency.

3. Salary and Bonus Limitations

Under Public Law 109-234, none of the funds appropriated in Public Law 109-149 or prior Acts under the heading “Employment and Training Administration” that are available for expenditure on or after June 15, 2006, shall be used by a recipient or subrecipient of such funds to pay the salary and bonuses of an individual, either as direct costs or indirect costs, at a rate in excess of Executive Level II., Public Laws 111-8 and 111-117 contain the same limitations with respect to funds appropriated under each of those laws. These limitations also apply to grants funded under this SGA. The salary and bonus limitation does not apply to vendors providing goods and services as defined in OMB Circular A-133 (codified at 29 CFR Parts 96 and 99). See Training and Employment Guidance Letter No. 5-06 for further clarification: http://wdr.doleta.gov/directives/corr_doc.cfm?DOCN=2262.

4. Intellectual Property Rights

The Federal Government reserves a paid-up, nonexclusive and irrevocable license to reproduce, publish, or otherwise use, and to authorize others to use for Federal purposes: (i) The copyright in all products developed under the grant, including a subgrant or contract under the grant or subgrant; and (ii) any rights of copyright to which the grantee, subgrantee, or a contractor purchases ownership under an award (including but not limited to curricula, training models, technical assistance products, and any related materials). Such uses include, but are not limited to, the right to modify and distribute such products worldwide by any means, electronically or otherwise. Federal funds may not be used to pay any royalty or licensing fee associated with such copyrighted material, although they may be used to pay costs for obtaining a copy. Those costs are limited to the developer/seller costs of copying and shipping. If revenues are generated through selling products developed with grant funds, including intellectual property, these revenues are program income. Program income is added to the grant and must be expended for allowable grant activities.

If applicable, grantees must include the following language on all products developed in whole or in part with grant funds:

This workforce solution was funded by a grant awarded by the U.S. Department of Labor's Employment and Training Administration. The solution was created by the grantee and does not necessarily reflect the official position of the U.S. Department of Labor. The Department of Labor makes no guarantees, warranties, or assurances of any kind, express or implied, with respect to such information, including any information on linked sites and including, but not limited to, accuracy of the information or its completeness, timeliness, usefulness, adequacy, continued availability, or ownership. This solution is copyrighted by the institution that created it. Internal use by an organization and/or personal use by an individual for noncommercial purposes are permissible. All other uses require the prior authorization of the copyright owner.

G. Other Submission Requirements

1. Withdrawal of Applications

Applications may be withdrawn by written notice to the Grant Officer at any time before an award is made.

H. For Further Information Contact

To confirm DOL's receipt of your submission, contact Ms. Serena Boyd, Grants Management Specialist, U.S. Department of Labor, Office of Grants and Contract Management, telephone number (202) 693-3338 (this is not a toll-free number); e-mail address: boyd.serena@dol.gov.

V. Application Rating Criteria and Review Information

A. Evaluation Criteria for NOI—Part B Applications

The following review criteria, totaling 100 points, apply only to those applicants that are subject to the NOI—Part B requirements as described in Part IV B 2 of this SGA. The criteria listed below will be considered in evaluating these applicants' capability to provide services and their ability to produce the best outcomes for the individuals residing in the proposed geographic service area.

1. Understanding the Unique Circumstances of Eligible Indians, Alaska Natives, Native Hawaiian Adults, and Youth—30 Points

Applicants must fully demonstrate a clear and specific understanding of the employment, training, and educational barriers encountered by the requested service population. It is critical throughout this section that applicants are as explicit and specific as possible in citing sources of data and analysis. Applicants should use relevant data from a wide variety of traditional sources (e.g., BLS reports and State surveys) and nontraditional information sources including consultation with Tribal economic development programs and Tribal colleges. Points for this rating factor will be based on the relevance, completeness, and quality of data and analysis presented, as follows:

a. Socioeconomic Factors—15 points.

Provide data and analysis of socioeconomic factors of and conditions faced by the eligible population in the geographic service area you propose to serve, including: Number of Indians and Native Americans in the requested service area; corresponding poverty rate; unemployment rate; potential or actual layoffs; education level, including graduation rates; skill levels and skill gaps currently existing and projected for eligible participants in the proposed geographic service area; potential barriers to employment for the service population (such as transportation needs, education needs, and child care needs).

b. Employment Outlook—15 points.

Provide data and analysis of the employment outlook for the geographic service area that you propose to serve, including opportunities by industry and occupation, and identification of the job skills necessary to obtain those employment opportunities. Specific employers that need or are likely to need skilled workers during the grant period should be identified.

2. Applicant's Experience—10 Points

The applicant will be evaluated based, in part, on its experience, if any, in implementing and operating programs that serve Indians, Alaskan Natives, and/or Native Hawaiians. The discussion must describe:

• The applicant's experience in program(s) that provided education, training, and/or placement services to Indians, Alaskan Natives, or Hawaiian-Natives, including a description of the programmatic goals and the results achieved.

• The applicant's experience leading or significantly participating in program(s) that otherwise served Indians, Alaskan Natives, or Hawaiian Natives, including a description of the programmatic goals and the results achieved.

• The applicant's track record in administering any Federal, State, local, or other funding. Include a description of the programmatic goals and programmatic fiscal and administrative results.

3. Capability and Administrative Capacity To Operate an Employment and Training Program Established for Serving Indians, Alaskan Natives, and/or Hawaiian Natives—30 Points

The applicant must fully describe its capability to staff the proposed initiative and maximize service to eligible participants. The application must also demonstrate the applicant's fiscal, administrative, and performance management capacity to implement the key components of this project. Scoring under this criterion will be based on the following:

a. Staff Capacity—10 points.

The discussion must include a description of the applicant's organizational structure, as well as the proposed staffing pattern for the project, including management staff, administrative staff, and program staff. The description must demonstrate that the designated role(s) and time commitment of the proposed staff will be sufficient to ensure proper direction, management, implementation, and timely completion of each project. Where a project manager is identified, the applicant must demonstrate that the qualifications and level of experience of the proposed project manager are sufficient to ensure proper management of the project. Where no project manager is identified, the applicant must discuss the minimum qualifications and level of experience that will be required for the position.

b. Applicant's ability to maximize services to eligible participants—10 points.

i. The applicant must describe its capacity to serve a maximum number of eligible participants.

ii. The applicant must describe its capacity to use a maximum amount of the funds provided by the grant to provide services to eligible participants, and to minimize the amount of unobligated funds that will be carried over from one program year to another.

c. Fiscal, Administrative and Performance Management Capacity—10 points.

The application must provide evidence that the applicant has the fiscal, administrative, and performance management capacity to administer this grant. Discussion must describe:

• The applicant's capacity, including its systems, processes, and administrative and fiscal controls that will enable it to comply with Federal rules and regulations related to the grant's fiscal and administrative requirements;

• The applicant's participant eligibility determination and verification system;

• The applicant's capacity to collect data and to ensure that the data collected and reports submitted are accurate and timely;

• The applicant's system to support program integrity, including the management and security of participant records;

• If applicable, the applicant's capacity to administer multiple funding streams and to track spending by program. The description must include the applicant's capacity to ensure that expenditures are posted against the appropriate program for applicants that receive funding from more than one Federal program;

• The applicant's capacity to manage supportive services (such as transportation and child care), and to account for expenditures related to these services. Additionally, the applicant should provide a description of the electronic tools that it will use (such as personal computer, Internet access, and e-mail accounts);

• The applicant's capacity, including its systems and processes, to effectively track participant status and performance outcomes; and

• The applicant's capacity to begin program operations in the proposed geographic service area by July 1, 2010.

4. Strategy and Linkages—30 Points

a. Proposed Recruitment and Pretraining Activities, Education/Training, Placement, and Retention Strategies—15 points.

The applicant must provide a complete and clear explanation of its proposed strategy and its implementation plans. The applicant must describe the proposed workforce development strategy in full and explain how the proposed education/training services will benefit Indians, Alaskan Natives, and/or Hawaiian Natives in the proposed geographic service area, as follows:

• During all phases of the grant: The applicant must describe how it will assist eligible participants in determining what supportive services are needed and assist eligible participants in obtaining those services.

• Recruitment and pretraining activities: The applicant must provide a comprehensive outreach and recruitment strategy that defines a clear process for finding and referring workers to the education/training programs, and describes pretraining activities such as assessment services, if applicable. The applicant must clearly identify how the proposed strategy will enable the project to effectively recruit Indians, Alaskan Natives, and/or Hawaiian Natives in the proposed geographic service area, and identify any potential barriers to employment.

• Training: The applicant must describe how the project will address the education/training needs of Indians, Alaskan Natives, and/or Hawaiian Natives, including how the education/training activities will accommodate the skill and education level, age, language barriers, and work experience of the service population. The applicant must demonstrate that the education/training will focus on industries, occupations, skills, and competencies that are in demand. Further, the proposed strategy must integrate training in basic skills, such as literacy and numeracy, and describe how the proposed education/training will lead to an appropriate employer-or-industry-recognized certificate or degree (which can include a license, as well as a registered apprenticeship certificate or degree) and/or to employment. The proposed strategy must also describe how the applicant will provide education/training services at times and locations that are convenient and easily accessible for the service population. In addition, the proposed strategy must describe how the applicant will educate individuals about opportunities for career advancement and wage growth within an industry or occupation, provide comprehensive coaching to help individuals take advantage of those opportunities, and pay participant education/training costs, whether directly through the grant or through other resources.

• Placements: The applicant must propose a strategy for placing Native Americans, Alaskan Natives, and/or Hawaiian Natives into employment. The applicant must identify specific job needs and describe the specific employers within the proposed geographic service area, and identify methods for engaging employers and referring participants to employers. Applicants serving incumbent workers should include a strategy for working with employers to support worker career advancement, if possible.

• Retention: The applicant must propose a strategy for promoting job retention among the Native Americans, Alaskan Natives, and/or Hawaiian Natives in the proposed geographic service area, including identifying specific activities and partners that could help participants retain employment. The proposal must include strategies for engaging employers and identifying the barriers to retention faced by participants after placement.

b. Linkages with the range of employment and training resources within the proposed geographic service area—15 points.

Scoring on this section will be based on the extent to which the applicant demonstrates that it has linkages, or the capacity to form linkages, with other entities within the proposed geographic service area, by addressing the following factors:

• Applicants must fully demonstrate that they have established, or have the capacity to establish linkages with entities such as Tribal economic development programs, the workforce investment system, including One-Stop Career Centers, educators, including the Department of Education or Tribal colleges, veterans organizations, youth councils, and other stakeholders in the proposed geographic service area in order to maximize educational and career opportunities for the service population. The applicant may include letters of support from the entities.

• Applicants must fully describe any partnerships that they have developed or initiated with (or must fully describe how they plan to develop partnerships with) Tribal economic development programs, the workforce investment system, including One-Stop Career Centers (See Section III I herein), educators, including the Department of Education or Tribal Colleges, veterans organizations, youth councils, and other key stakeholders in the geographic service area, and the degree to which each partner will play a role in providing employment, training, and educational services to the service population. The applicant may include letters of support from the partner(s).

• Applicants must fully describe any funds and other resources that will be leveraged to support grant activities and how these funds and other resources will be used to contribute to the proposed outcomes for the project, including any leveraged resources related to the provision of supportive services for program participants.

• The applicant must describe services available to veterans, and how the applicant plans to implement veteran and spousal priority of service in the proposed geographic service area.

B. Review Process for All Applications

DOL's Indian and Native American Program, with the concurrence of the Grant Officer, will conduct an initial review of all submissions for Section 166 designation for compliance with the statute, regulations, and this SGA. The initial review will consider the timeliness and completeness of the submission, applicant eligibility, eligibility of the requested service area, population size, and priorities, as described in Section III C 2, herein. The review will also consider the applicant's ability to administer funds as specified at 20 CFR 668.220 and 668.230. Applicants that do not satisfy these conditions will not be funded.

The Grant Officer may require additional or clarifying information or action, including a site visit, before designating applicants and/or before determining whether to conduct a competition for a particular geographic service area. In addition, applicants may be required to address actions taken to correct deficiencies identified by DOL, including specific timeframes for completion.

Organizations with no prior grant history with DOL, or about whom there are financial or grant management concerns, may be conditionally designated pending an onsite review and/or a six-month assessment of program progress. Failure to satisfy such conditions may result in a withdrawal of designation. The Grant Officer is not required to adhere to the geographical service area requested in an NOI. The Grant Officer may make the designation applicable to all of the area requested or, if acceptable to the applicant, a portion of the area requested or more than the area requested.

C. Competitive Selection Procedures

Where competitive evaluation is required, the Grant Officer will use a formal panel review process to score the information submitted with the complete NOI (Part A and B), using the criteria listed in Section V.A. The review panel will include individuals with knowledge of or expertise in programs dealing with Indians and Native Americans. The purpose of the panel is to review and evaluate an organization's potential, based on its application (including the supplemental information required in NOI—Part B), to provide services to a specific Native American community, to rate the proposals in accordance with the rating criteria described in Section V-A, and to make recommendations to the Grant Officer.

It is DOL's policy that no information affecting the panel review process will be solicited or accepted after the deadlines for receipt of applications set forth in this SGA. All submitted information must be in writing. This policy does not preclude the Grant Officer from requesting or considering additional information independent of the panel review process.

During the review, the panel will not give weight to undocumented assertions. Any information must be supported by adequate and verifiable documentation, e.g., supporting references must contain the name of the contact person, an address, and telephone number. Panel ratings and recommendations are advisory to the Grant Officer.

The Grant Officer will make the final determination of Section 166 designees and of the geographic service area for which each designation is made. In accordance with 20 CFR 668.250(b) (4), the Grant Officer will select the entity that demonstrates the ability to produce the best outcomes for its customers, based on all available evidence. In addition to considering the review panel's rating, the Grant Officer will consider input from DOL's Indian and Native American Program, other offices within ETA, the DOL Office of the Inspector General, and any other available information regarding applicants' financial capability, operational capability, and responsibility in order to make funding determinations that are most advantageous to the government. The Grant Officer need not designate an entity for every geographic area (see 20 CFR 668.294). If there are service areas for which no entity submitted a complete NOI, the Grant Officer may either designate no service provider or may designate an entity based on demonstrated capability to provide the best services to the client population.

D. Anticipated Announcement and Designation

If possible, designation decisions will be made by April 15, 2010.

VI. Award Administration Information

A. Award Notices

All award notifications will be posted on the ETA Homepage (http://www.doleta.gov). Applicants selected for award will be contacted directly before the grant's execution and non-selected applicants will be notified by mail. The Grant Officer will notify Section 166 applicants of designation results as follows:

(i) Designation Letter. The designation letter signed by the Grant Officer will serve as official notice of an organization's designation. The designation letter will include the geographic service area for which the designation is made. Upon receipt of the designation letter, designated entities must ensure and provide evidence to DOL that a system is in place to afford all members of the eligible population within their service area an equitable opportunity to receive employment and training activities and services. See 29 CFR 668.260(b).

(ii) Conditional Designation Letter. Conditional designations will include identification of the geographic service area, the nature of the conditions, actions required for the designee to achieve full designation status, and the timeframe in which such actions must be accomplished.

(iii) Nondesignation Letter. Any organization not designated, in whole or in part, for a requested geographic service area will be notified formally, in writing, of the nondesignation and provided the reasons for the determination. Notification by a person or entity other than the Grant Officer that an organization has been designated is not valid.

An applicant for WIA Section 166 designation that is not awarded such designation, in whole or in part, may be afforded the opportunity to appeal non-designation as provided at 20 CFR 668.270 and 20 CFR part 667, subpart H. Information about termination of designation can be found at 20 CFR 668.290.

Selection of an organization as a grantee does not constitute approval of the grant application as submitted. Before the actual grant is awarded, ETA may enter into negotiations about such items as program components, staffing and funding levels, and administrative systems in place to support grant implementation. If the negotiations do not result in a mutually acceptable submission, the Grant Officer reserves the right to terminate the negotiation and decline to fund the application.

B. Administrative and National Policy Requirements Rules

1. Administrative Program Requirements

All grantees will be subject to all applicable Federal laws, including WIA Section 166, (codified as amended, at 29 U.S.C. 2801 et seq.); its implementing regulations, including 20 CFR Part 668; and the applicable OMB Circulars.

The grant(s) awarded under this SGA will be subject to the following administrative standards and provisions:

i. Nonprofit Organizations—OMB Circulars A-122 (Cost Principles) and 29 CFR part 95 (Administrative Requirements).

ii. Educational Institutions—OMB Circulars A-21 (Cost Principles) and 29 CFR part 95 (Administrative Requirements).

iii. State and Local Governments—OMB Circulars A-87 (Cost Principles) and 29 CFR part 97 (Administrative Requirements).

iv. Profit Making Commercial Firms—Federal Acquisition Regulation (FAR)—48 CFR part 31 (Cost Principles), and 29 CFR part 95 (Administrative Requirements).

v. All entities must comply with 29 CFR parts 93 (new restrictions on lobbying) and 98 (debarment, suspension and drug-free workplace requirements), and, where applicable, 29 CFR parts 96 (audit requirements) and 99.

vi. 29 CFR Part 2, subpart D—Equal Treatment in DOL Programs for Religious Organizations, Protection of Religious Liberty of DOL Social Service Providers and Beneficiaries.

vii. 29 CFR part 31—Nondiscrimination in Federally Assisted Programs of DOL—Effectuation of Title VI of the Civil Rights Act of 1964.

viii. 29 CFR part 32—Nondiscrimination on the Basis of Handicap in Programs and Activities Receiving or Benefiting from Federal Financial Assistance.

ix. 29 CFR part 33—Enforcement of Nondiscrimination on the Basis of Handicap in Programs or Activities Conducted by DOL.

x. 29 CFR part 35— Nondiscrimination on the Basis of Age in Programs or Activities Receiving Federal Financial Assistance from DOL.

xi. 29 CFR part 36—Nondiscrimination on the Basis of Sex in Education Programs or Activities Receiving Federal Financial Assistance.

The following administrative standards and provisions may be applicable:

i. Sections of WIA and its implementing regulations in addition to section 166, 20 CFR part 668 and 20 CFR part 667 (General Fiscal and Administrative Rules);

ii. 29 CFR part 29 & 30—Apprenticeship & Equal Employment Opportunity in Apprenticeship and Training;

iii. 29 CFR part 37—Implementation of the Nondiscrimination and Equal Opportunity Provisions of the Workforce Investment Act of 1998:

• The Religious Freedom Restoration Act (RFRA), 42 U.S.C. 2000bb, applies to all Federal law and its implementation. If your organization is a faith-based organization that makes hiring decisions on the basis of religious belief, it may be entitled to receive Federal financial assistance under Title I of WIA and maintain that hiring practice even though Section 188 of WIA contains a general ban on religious discrimination in employment. If you are awarded a grant, you will be provided with information on how to request such an exemption.

iv. Ensuring the Health and Safety of Participants Under WIA Section 181(b)(4)—Health and safety standards established under Federal and State law otherwise applicable to working conditions of employees are equally applicable to working conditions of participants engaged in training and other activities. Applicants that are awarded grants through this SGA are reminded that these health and safety standards apply to participants in these grants.

In accordance with WIA Section 195(6) and 20 CFR 668.630(f), programs funded under this SGA must not involve political activities. Additionally, in accordance with Section 18 of the Lobbying Disclosure Act of 1995 (Pub. L. 104-65) (2 U.S.C. 1611), 20 CFR 668.630(g) and 29 CFR part 93, nonprofit entities incorporated under Internal Revenue Service Code Section 501(c)(4) that engage in lobbying activities are not eligible to receive Federal funds and grants.

Except as specifically provided in this SGA, ETA's acceptance of a proposal and an award of Federal funds to sponsor any programs(s) does not provide a waiver of any grant requirements and/or procedures. For example, the OMB Circulars require that an entity's procurement procedures must ensure that all procurement transactions are conducted, as much as practical, to provide open and free competition. If a proposal identifies a specific entity to provide services, the ETA's award does not provide the justification or basis to sole source the procurement, i.e., avoid competition.

2. Reporting

WIA Section 166 grantees will be required to submit reports on financial expenditures, program participation, and participant outcomes on no more than a quarterly basis. Grantees are required to file reports electronically. Reporting requirements include OMB Common Measures and will include evaluation of the Grantee's annual performance against those Common Measures. Current reporting requirements for Section 166 grants are found at 20 CFR part 668, subparts D and F. DOL will provide instructions on how and when to file reports. Failure to follow DOL instructions for the submission of timely and complete reports may be considered a material failure to conform with the terms of the grant award and may lead to sanctions.

VII. Agency Contacts

For further information about this SGA, please contact Serena Boyd, Grants Management Specialist, Division of Federal Assistance, at (202) 693-3338 (this is not a toll-free number). Applicants should e-mail all technical questions to boyd.serena@dol.gov and must specifically reference SGA-DFA-PY 09-04, and along with question(s), include a contact name, fax and phone number.

This announcement is being made available on the ETA Web site at http://www.doleta.gov/grants and at http://www.grants.gov.

VIII. Other Information

Potential applicants may obtain further information on the WIA Section 166 Program for employment and training of Native Americans through the Web site for DOL's INAP programs: http://www.doleta.gov/dinap. Any information submitted in response to this SGA will be subject to the provisions of the Privacy Act and the Freedom of Information Act, as appropriate. DOL is not obligated to make any awards as a result of this SGA, and only the Grant Officer can bind the DOL to the provision of funds under WIA Section 166. Unless specifically provided in the grant agreement, DOL's acceptance of a proposal and/or award of Federal funds does not waive any grant requirements and/or procedures.

IX. OMB Information Collection

OMB Information Collection No. 1225-0086

Expires November 30, 2012

According to the Paperwork Reduction Act of 1995, no persons are required to respond to a collection of information unless such collection displays a valid OMB control number. Public reporting burden for this collection of information is estimated to average 20 hours per response, including time for reviewing instructions, searching existing data sources, gathering and maintaining the data needed, and completing and reviewing the collection of information. Send comments about the burden estimated or any other aspect of this collection of information, including suggestions for reducing this burden, to the OMB Desk Officer for ETA, Department of Labor, in the Office of Management and Budget, Room 10235, Washington, DC 20503. Please do not return the completed application to OMB. Send it to the sponsoring agency as specified in this solicitation.

This information is being collected for the purpose of awarding a grant. The information collected through this SGA will be used by DOL to ensure that grants are awarded to the applicant best suited to perform the functions of the grant. Submission of this information is required in order for the applicant to be considered for award of this grant. Unless otherwise specifically noted in this announcement, the information submitted by grant applicants is not considered to be confidential, and will be available to the public. Applications filed in response to this SGA may be posted on the Department's Web site.

Signed at Washington, DC this 8th day of March, 2010.
B. Jai Johnson,
Grant Officer.

[FR Doc. 2010-5371 Filed 3-11-10; 8:45 am]

BILLING CODE 4510-FN-P